DEPARTMENT OF HEALTH AND HUMAN SERVICES

National Institutes of Health

Center for Scientific Review; Amended Notice of Meeting

Notice if hereby given of a change in the meeting of the Center for Scientific Review Special Emphasis Panel, December 3, 2004, 10:30 a.m. to December 3, 2004, 11:30 a.m. National Institutes of Health, 6701 Rockledge Drive, Bethesda, MD 20892, which was published in the Federal Register November 29, 2004, 69 FR 69379.

The meeting will be held December 9, 2004. The meeting time and location remain the same. The meeting is closed to the public.

Dated: December 1, 2004.
LaVerne Y. Stringfield,
Director, Office of Federal Advisory Committee Policy.

[FR Doc. 04-26884 Filed 12-7-04; 8:45 am]

BILLING CODE 4140-01-M